DEPARTMENT OF COMMERCE

National Oceanic and Atmoispheric Administration

[I.D. 072000B]

Submission For OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Raised Footrope Trawl Exemption Fishery

Form Number(s): None

OMB Approval Number: None

Type of Request: Emergency submission

Burden Hours: 230

Number of Respondents: 288

Average Hours Per Response: 2 minutes

Needs and Uses: Framework 35 to the Northeast Multispecies Fishery Management Plan is intended to modify existing multispecies regulations to allow for a seasonal whiting raised footrope trawl exempted fishery. Persons holding multispecies Federal Fisheries Permits and wanting to participate in the exempted fishery must: (1) request a certificate to fish in the fishery, and (2) provide notification when they withdraw from the fishery. The information is needed for management of the fishery and enforcement.

Affected Public: Business and other for-profit

Frequency: On occasion

Respondent's Obligation: Mandatory

OMB Desk Officer: David Rostker, (202) 395-3897.

Copies of the above information collection proposal can be obtained by calling or writing Linda Engelmeier, DOC Forms Clearance Officer, (202) 482-3272, Department of Commerce, Room 6086, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: July 18, 2000.
Madeleine Clayton,
Management Analyst, Office of the Chief Information Officer.

[FR Doc. 00-18901 Filed 7-25-00; 8:45 am]

BILLING CODE 3510-22-F